DEPARTMENT OF HEALTH AND HUMAN SERVICES

Centers for Disease Control and Prevention

[Program Announcement 02032]

Cooperative Agreement to the Medical Research Council of South Africa (MRC) for Tuberculosis Control Activities; Notice of Award of Funds

A. Purpose

The Centers for Disease Control and Prevention (CDC) announces the award of fiscal year (FY) 2002 funds for a sole source cooperative agreement for the Medical Research Council of South Africa (MRC).

The purpose of this program is to help support and ensure implementation of tuberculosis (TB) control activities that are designed to develop, establish, and coordinate systems and procedures to address the obstacles to achieving control of TB and multi-drug tuberculosis (MDR-TB) in South Africa. These collaborative activities can profoundly change the focus and activities of the South African National TB Control Program and improve TB treatment and control programs and related prevention efforts in South Africa.

B. Eligible Applicants

Assistance will be provided only to the Medical Research Council (MRC) of South Africa. No other applications will be solicited. MRC will support and ensure implementation of tuberculosis (TB) control activities that are designed to develop, establish, and coordinate systems and procedures to address the obstacles to achieving control of tuberculosis and multi-drug tuberculosis (MDR-TB) in South Africa.

MRC is the most appropriate and qualified agency to conduct the activities under this cooperative agreement because:

1. The MRC is uniquely positioned, in terms of legal authority, ability, track record, and credibility in South Africa to develop and support TB control activities in both public and non-governmental organization sites throughout the country.

2. The MRC has already established mechanisms to develop and implement TB treatment services in South Africa, enabling it to immediately become engaged in the activities listed in this announcement.

3. The purpose of the announcement is to build upon the existing framework of TB control activities that the MRC has developed or initiated.

4. The MRC has been mandated by the South African government to coordinate and implement TB treatment and control activities including MDR-TB within the country.

5. MRC has a unique and unparalleled involvement with the Ministry of Health's National Tuberculosis Control Program (NTP) and the South African National Tuberculosis Association (SANTA) based on a history of collaboration.

6. MRC coordinates the research and development activities for the Global Alliance for TB Drug Development in the search for a better, more effective and affordable cure for TB that is shorter, equally effective against susceptible and drug-resistant TB, accessible to the populations that need it most, and be on the market in less than 10 years.

C. Funds

Approximately $307,000 is being awarded in FY 2002. The award will be made by July 1, 2002, for a 12-month budget period within a project period of up to five years.

D. Where To Obtain Additional Information

If you have questions after reviewing the contents of all the documents, business management technical assistance may be obtained from:

Angelia D. Hill, Grants Management Specialist, Grants Management Branch, Procurement and Grants Office, Centers for Disease Control and Prevention, 2920 Brandywine Road, MS E-09, Atlanta, GA 30341-4146, Telephone: (770) 488-2785, FAX: (770) 488-2688, E-mail: aph8@cdc.gov.

Michael Qualls, Deputy Associate Director, International Activities, Division of Tuberculosis Elimination, National Center for HIV, STD, and TB Prevention Centers for Disease Control and Prevention (CDC), 1600 Clifton Road Mailstop E-10, Atlanta, GA 30333, Telephone 404-639-8488, Email address: muq1@cdc.gov.

Dated: August 20, 2002.
Sandra R. Manning, CGFM,
Director, Procurement and Grants Office, Centers for Disease Control & Prevention.

[FR Doc. 02-21731 Filed 8-26-02; 8:45 am]

BILLING CODE 4163-18-P